DEPARTMENT OF DEFENSE

Department of the Army

Availability for Non-Exclusive, Exclusive, or Partially Exclusive Licensing of U.S. Patent Concerning Low-Backscatter Aperture Structure

AGENCY: Department of the Army, DoD.

ACTION: Notice.

SUMMARY: In accordance with 37 CFR 404.6 and 404.7, announcement is made of the availability for licensing of U.S. Patent Application No. 10/006,316 entitled “Low-Backscatter Aperture Structure,” filed 12/4/2001. This patent has been assigned to the United States Government, as represented by the Secretary of the Army.

ADDRESSES: Commander, U.S. Army Medical Research and Materiel Command, ATTN: Command Judge Advocate, MCMR-JA, 504 Scott Street, Fort Detrick, Frederick, Maryland 21705-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: A system including but not limited to a low-backscatter aperture structure, where the system include but is not limited to a camera, an optical communications system, an imaging system, a test system, and a measurement system.

Luz D. Ortiz,
Army Federal Register Liaison Officer.

[FR Doc. 02-11070 Filed 5-2-02; 8:45 am]

BILLING CODE 3710-08-M